DEPARTMENT OF INTERIOR

National Park Service

[NPS-SERO-BICY-17725; PPSESEROC3, PMP00UP05.YP0000]

Plan of Operations To Conduct 3-Dimensional Seismic Oil and Gas Exploration Within Big Cypress National Preserve

AGENCY: National Park Service, Interior.

ACTION: Notice of Availability.

SUMMARY: The National Park Service (NPS) is seeking public comments on Nobles Grade 3-D Seismic Survey/Plan of Operations (Plan) to explore for oil and gas within Big Cypress National Preserve. The Plan seeks approval to conduct a seismic survey over a 110± square mile area to evaluate the subsurface geologic structure and geophysical conditions pertaining to accumulations of commercial quantities of crude oil and natural gas in the Sunniland Oil Trend. The applicant, Burnett Oil Company, Inc., proposes to conduct the seismic survey by using small, portable seismic receivers (geophones) and recording devices, which measure and record subtle vibrations in the ground. No explosives will be used to create the vibrations or seismic acoustical signals, and there will be no ground disturbances from detonations. Instead, vibrations will be created using mobile plates attached to special off-road vehicles which are placed against the ground, vibrated, and then moved on to the next location. The source and receivers would be placed in a line grid to allow the applicant to map the subsurface geology.

DATES: The comment period will be announced through local media outlets and on the NPS Planning, Environment, and Public Comment (PEPC) Web site at http://parkplanning.nps.gov/bicy. The Plan will be available for public review and comment through July 17, 2015.

ADDRESSES: Interested individuals, organizations, and agencies are encouraged to provide written comments. Written comments may be sent to the Office of the Superintendent, Big Cypress National Preserve, 33100 Tamiami Trail East Ochopee, Florida 34141 or entered in the PEPC system Web site at http://parkplanning.nps.gov/bicy. Copies of the Plan are available upon request from the contact listed below.

FOR FURTHER INFORMATION CONTACT: Requests for further information should be directed to the Big Cypress National Preserve PEPC system online at: http://parkplanning.nps.gov/bicy; Big Cypress National Preserve Environmental Specialist Don Hargrove by phone at 239-695-1150; via email at Don_Hargrove@nps.gov; or by mail at Big Cypress National Preserve, 33100 Tamiami Trail East, Ochopee, Florida 34141.

SUPPLEMENTARY INFORMATION: Comments in any format (hard copy or electronic) submitted on behalf of others will not be accepted. Before including your address, phone number, email address, or other personal identifying information in any comment, you should be aware that your entire comment—including your personal identifying information—may be made publicly available at any time. While you can ask us in your comment to withhold your personal identifying information from public review, we cannot guarantee that we will be able to do so.

The official responsible for approving or disapproving this Plan is the Regional Director, NPS Southeast Region, 100 Alabama Street SW., 1924 Building, Atlanta, Georgia 30303.

Dated: June 1, 2015.
Barclay C. Trimble,
Acting Regional Director, Southeast Region.

[FR Doc. 2015-14425 Filed 6-16-15; 8:45 am]

BILLING CODE 4310-JD-P